ENVIRONMENTAL PROTECTION AGENCY

40 CFR Part 52

[EPA-R04-OAR-2022-0409; FRL-8790-01-R4]

Air Plan Approval; Kentucky; Update to Materials Incorporated by Reference

AGENCY: Environmental Protection Agency (EPA).

ACTION: Final rule; notice of administrative change.

SUMMARY: The Environmental Protection Agency (EPA) is updating the materials that are incorporated by reference (IBR) into the Commonwealth of Kentucky's (Commonwealth's) State Implementation Plan (SIP). The regulations affected by this update have been previously submitted by the Commonwealth and approved by EPA. In this notice, EPA is also notifying the public of corrections and clarifying changes to the Code of Federal Regulations (CFR) tables that identify material incorporated by reference into the Commonwealth's SIP. This update affects the materials that are available for public inspection at the National Archives and Records Administration (NARA) and the EPA Regional Office.

DATES: This rule is effective November 15, 2023.

ADDRESSES: The SIP materials whose incorporation by reference into 40 CFR part 52 is finalized through this action are available for inspection at the following locations: Environmental Protection Agency, Region 4, 61 Forsyth Street SW, Atlanta, GA 30303; and www.regulations.gov. To view the materials at the Region 4 Office, EPA requests that you email the contact listed in the FOR FURTHER INFORMATION CONTACT section to schedule your inspection. The Regional Office's official hours of business are Monday through Friday 8:30 a.m. to 4:30 p.m., excluding Federal holidays.

FOR FURTHER INFORMATION CONTACT: Sarah LaRocca, Air Planning and Implementation Branch, Air and Radiation Division, U.S. Environmental Protection Agency, Region 4, 61 Forsyth Street SW, Atlanta, Georgia 30303-8960. Ms. LaRocca can be reached via telephone at (404) 562-8994 or via electronic mail at larocca.sarah@epa.gov.

SUPPLEMENTARY INFORMATION:

I. Background

Each State has a SIP containing the control measures and strategies used to attain and maintain the national ambient air quality standards (NAAQS). The SIP is extensive, containing such elements as air pollution control regulations, emission inventories, monitoring networks, attainment demonstrations, and enforcement mechanisms.

Each State must formally adopt the control measures and strategies in the SIP after the public has had an opportunity to comment on them and then submit the proposed SIP revisions to EPA. Once these control measures and strategies are approved by EPA, and after notice and comment, they are incorporated into the federally-approved SIP and are identified in part 52—“Approval and Promulgation of Implementation Plans,” Title 40 of the Code of Federal Regulations (40 CFR part 52). The full text of the State regulation approved by EPA is not reproduced in its entirety in 40 CFR part 52 but is “incorporated by reference.” This means that EPA has approved a given State regulation or specified changes to a given regulation with a specific effective date. The public is referred to the location of the full text version should they want to know which measures are contained in the SIP. The information provided allows EPA and the public to monitor the extent to which a State implements a SIP to attain and maintain the NAAQS and to take enforcement action for violations of the SIP.

The SIP is a living document which the State can revise as necessary to address the unique air pollution problems in the State. Therefore, EPA from time to time must take action on proposed revisions containing new or revised regulations. A submission from a State can revise one or more rules in their entirety or portions of rules. The State indicates the changes in the submission (such as by using redline/strikethrough text), and EPA then takes action on the requested changes. EPA establishes a docket for its actions using a unique Docket Identification Number, which is listed in each action. These dockets and the complete submission are available for viewing on www.regulations.gov.

On May 22, 1997 (62 FR 27968), EPA revised the procedures for incorporating by reference, into the Code of Federal Regulations, materials approved by EPA into each SIP. These changes revised the format for the identification of the SIP in 40 CFR part 52, streamlined the mechanisms for announcing EPA approval of revisions to a SIP, and streamlined the mechanisms for EPA's updating of the IBR information contained for each SIP in 40 CFR part 52. The revised procedures also called for EPA to maintain “SIP Compilations” that contain the federally approved regulations and source-specific permits submitted by each State agency. EPA generally updates these SIP Compilations on an annual basis. Under the revised procedures, EPA must periodically publish an informational document in the rules section of the Federal Register notifying the public that updates have been made to a SIP Compilation for a particular State. EPA began applying the 1997 revised procedures to the Commonwealth on May 27, 1999 (64 FR 28748), to Jefferson County, Kentucky, on October 23, 2001 (66 FR 53658), and to EPA-Approved Kentucky Source-Specific Requirements on May 27, 1999 (64 FR 28748) and is providing this notice in accordance with such procedures.

II. EPA Action

In this action, EPA is providing notice of an update to the materials incorporated by reference into the Commonwealth's SIP as of September 30, 2022, and identified in 40 CFR 52.920(c) and (d). This update includes SIP materials approved by EPA since the last IBR update. See 69 FR 1677 (January 12, 2004). In addition, EPA is providing notice of the following corrections and clarifying changes to 40 CFR 52.920(c) and (d):

Changes Applicable to Paragraph (c), Table 1—EPA-Approved Kentucky Laws and Regulations

A. Correcting Table (c)'s title, from “(c) EPA approved regulations” to “(c) EPA-approved laws and regulations”.

B. Changing Table 1's header of paragraph (c) from “EPA-Approved Kentucky Regulations” to “EPA-Approved Kentucky Laws and Regulations”.

C. Under the “State effective date” and “EPA approval date” removing the leading zero from the month and day, changing the 2-digit year to reflect a 4-digit year (for consistency), and correcting Federal Register citations to reflect the beginning page of the preamble as opposed to that of the regulatory text.

D. Removing the period after all Federal Register citations (for consistency) under “EPA approval date”.

E. Changing the EPA approval date under Chapter 50, 401 KAR 50:055, from “5/4/1989, 54 FR 19169” to “12/4/1986, 51 FR 43742”, to accurately reflect revisions made to the respective rule.

F. Correcting a typographical error in the CFR under Chapter 50, 401 KAR 50:066, by changing the title from “Conformity of transportation plans, programs, and projects. (Amendment)” to “Conformity of transportation plans, programs, and projects (Amendment)”.

G. Adding language “Except the phrase `except ethanol production facilities producing ethanol by natural fermentation under the North American Industry Classification System (NAICS) codes 325193 or 312140' in 401 KAR 51:001 Section 1(118)(a)(2)(a) and the phrase `except ethanol production facilities producing ethanol by natural fermentation under NAICS codes 325193 or 312140' in 401 KAR 51:001 Section 1(118)(c)(20)” into the “Explanation” for the entry under Chapter 51, 401 KAR 51:001, to better reflect the action described in 75 FR 55988.

H. Adding language “With the exception of the SILs and SMC provisions for PM2.5, and except the phrase `except ethanol production facilities producing ethanol by natural fermentation under the North American Industry Classification System (NAICS) codes 325193 or 312140' in 401 KAR 51:017 Section 7(1)(c)20” for the entry under Chapter 51, 401 KAR 51:017, to better reflect the action described in 75 FR 55988.

I. Adding language “With the exception of the SILs and SMC provisions for PM2.5 and except the phrase `except ethanol production facilities producing ethanol by natural fermentation under the North American Industry Classification System (NAICS) codes 325193 or 312140' in 401 KAR 51:052 Section 2(3)(t)” for the entry under Chapter 51, 401 KAR 51:052, to better reflect the actions described in 79 FR 65143 and 75 FR 55988, respectively.

J. Correcting a typographical error in the CFR under Chapter 51, 401 KAR 51:052, by changing the title “Review of new sources in or impacting nonattainment areas” to “Review of new sources in or impacting upon nonattainment areas”.

K. Changing the effective date of 401 KAR 51:052 because Kentucky's September 23, 2011, SIP revision, with an effective date of August 4, 2011, is captured and superseded by Kentucky's January 31, 2013, SIP revision, state effective on December 7, 2012, which EPA previously approved on November 3, 2014.

L. Changing the State Citation title “** 401 KAR 52:040” to “401 KAR 52:040”.

M. Adding language “Except for references to hydrogen sulfide, fluorides, and odor” into the “Explanation” for the entry under Chapter 53, 401 KAR 53:010, to better reflect the action described in 82 FR 42746.

N. Correcting a typographical error for State citation 401 KAR 59:105 by changing the title, “New process gas steams” to “New process gas streams”.

O. Correcting a typographical error in the CFR under Chapter 61, 401 KAR 61:001, changing the title “Definitions and abbreviations of terms used in the Title 401, Chapter 61” to “Definitions for 401 KAR Chapter 61”.

P. Including an EPA approval date and a Federal Register citation for 401 KAR 61:001.

Changes Applicable to Paragraph (c), Table 2—EPA-Approved Jefferson County Regulations for Kentucky

A. Under the “State effective date” and “EPA approval date” removing the leading zero from the month and day, changing the 2-digit year to reflect a 4-digit year (for consistency), and correcting Federal Register citations to reflect the beginning page of the preamble as opposed to that of the regulatory text.

B. Adding the phrase “Except for paragraphs 1.3, 5.3 and 5.6 regarding asbestos demolition, which were removed from the federally approved SIP by EPA on 5/7/2021” into the “Explanation” for the entry under Reg 2, Reg 2.03 to reflect the action described in 86 FR 24505.

C. Reformatting Reg 6, specifically 6.44 and 6.45, to be in sequential order.

D. Removing the heading “Reg 8—Mobile Source Emissions Control”.

Changes Applicable to Paragraph (d) EPA-Approved Kentucky Source-Specific Requirements

A. Under the “State effective date” and “EPA approval date” removing the leading zero from the month and day, changing the 2-digit year to reflect a 4-digit year (for consistency), correcting various dates under “State effective date,” and correcting Federal Register citations to reflect the beginning page of the preamble as opposed to that of the regulatory text of the regulatory text.

B. Removing the period after all Federal Register citations (for consistency) under “EPA approval date”.

C. Rephrasing the “Explanation” for entry “Calgon Carbon Corporation”, specifically for emission points 32, 34, 39, 40, to be in sequential order.

D. Removing the duplicate “TVA Paradise Permit” entry with “Permit No.” “KDEPDAQ Permit 0-87-012”.

E. Correcting a typographical error in the “Explanation” column for the entry “Source-Specific SIP Revision for Avis Budget Car Rental Group” by adding a period to read as follows: “Removal of stage II requirements.”

F. Under “Variance for seven perchloroethylene dry cleaners”, the State effective date is revised from “8/4/1982” to “7/30/1982”.

G. Under “Variance for two dry cleaners”, the State effective date is revised from “1/27/1983” to “1/12/1983”.

H. Under “Variance for Jiffy and Hiland Dry Cleaners”, the State effective date is revised from “4/25/1984” to “3/30/1984.

I. Correcting a typographical error in the CFR under “Opacity variance for boiler Units 1 and 2 of TVA's Paradise Steam Plant” by changing the State effective date from “7/24/1996” to “7/24/1986”.

III. Good Cause Exemption

EPA has determined that this action falls under the “good cause” exemption in section 553(b)(3)(B) of the Administrative Procedure Act (APA) which, upon finding “good cause,” authorizes agencies to dispense with public participation and section 553(d)(3) which allows an agency to make an action effective immediately (thereby avoiding the 30-day delayed effective date otherwise provided for in the APA). This administrative action simply codifies provisions which are already in effect as a matter of law in Federal and approved State programs, makes typographical/ministerial revisions to the tables in the CFR, and makes ministerial changes to the prefatory heading to the tables in the CFR. Under section 553(b)(3)(B) of the APA, an agency may find good cause where procedures are “impracticable, unnecessary, or contrary to the public interest.” Public comment for this administrative action is “unnecessary” and “contrary to the public interest” since the codification (and corrections) only reflect existing law and the changes to the prefatory heading to the tables are ministerial in nature. Immediate notice of this action in the Federal Register benefits the public by providing the public notice of the updated Kentucky SIP Compilation and notice of corrections and clarifications to the Commonwealth's “Identification of Plan” portion of the CFR. Further, pursuant to section 553(d)(3), making this action immediately effective benefits the public by immediately updating both the SIP Compilation and the CFR “Identification of plan” section (which includes table entry corrections).

IV. Incorporation by Reference

In this rule, EPA is finalizing regulatory text that includes incorporation by reference. In accordance with requirements of 1 CFR 51.5, EPA is finalizing the incorporation by reference of regulations promulgated by Kentucky, previously approved by EPA and federally effective before to September 30, 2022, contained in “Kentucky, Volume 1, 40 CFR 52.920(c)(1), EPA-Approved Kentucky Laws and Regulations”, “Kentucky, Volume 2, 40 CFR 52.920(c)(2), EPA-Approved Jefferson County Regulations”, and “Kentucky, Volume 3, 40 CFR 52.920(d), EPA-Approved Kentucky Source-Specific Requirements”. EPA has made, and will continue to make, these materials generally available through www.regulations.gov and at the EPA Region 4 Office (please contact the person identified in the FOR FURTHER INFORMATION CONTACT section of this preamble for more information).

V. Statutory and Executive Order Reviews

Under the CAA, the Administrator is required to approve a SIP submission that complies with the provisions of the Act and applicable Federal regulations. See 42 U.S.C. 7410(k); 40 CFR 52.02(a). Thus, in reviewing SIP submissions, EPA's role is to approve State choices, provided that they meet the criteria of the CAA. Accordingly, this final rule and notification of administrative change does not impose additional requirements beyond those imposed by State law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of Section 12(d) of the National Technology Transfer and Advancement Act of 1995 (15 U.S.C. 272 note) because application of those requirements would be inconsistent with the CAA.

The SIP is not approved to apply on any Indian reservation land or in any other area where EPA or an Indian tribe has demonstrated that a tribe has jurisdiction. In those areas of Indian country, the rule does not have Tribal implications as specified by Executive Order 13175 (65 FR 67249, November 9, 2000), nor will it impose substantial direct costs on Tribal governments or preempt Tribal law.

Executive Order 12898 (Federal Actions To Address Environmental Justice in Minority Populations and Low-Income Populations, 59 FR 7629, Feb. 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.” EPA did not perform an EJ analysis and did not consider EJ in this action. Consideration of EJ is not required as part of this action, and there is no information in the record inconsistent with the stated goal of E.O. 12898 of achieving EJ for people of color, low-income populations, and Indigenous peoples.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

EPA also believes that the provisions of section 307(b)(1) of the CAA pertaining to petitions for judicial review are not applicable to this action. This is because prior EPA rulemaking actions for each individual component of the Kentucky SIP compilation previously afforded interested parties the opportunity to file a petition for judicial review in the United States Court of Appeals for the appropriate circuit within 60 days of such rulemaking action. Thus, EPA believes judicial review of this action under section 307(b)(1) is not available.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: November 1, 2023.
Jeaneanne Gettle,
Acting Regional Administrator, Region 4.

40 CFR part 52, is amended as follows:

PART 52—APPROVAL AND PROMULGATION OF IMPLEMENTATION PLANS

1. The authority for citation for part 52 continues to read as follows:

Authority: 42 U.S.C. 7401 et seq.

Subpart S—Kentucky

2. In § 52.920, paragraphs (b), (c), and (d) are revised as follows:

§ 52.920 Identification of plan.

* * * * *

(b) Incorporation by reference. (1) Material listed in paragraphs (c) and (d) of this section with an EPA approval date prior to September 30, 2022, for the Commonwealth of Kentucky and September 30, 2022, for Jefferson County, Kentucky, was approved for incorporation by reference by the Director of the Federal Register in accordance with 5 U.S.C. 552(a) and 1 CFR part 51. Material is incorporated as it exists on the date of the approval and notice of any change in the material will be published in the Federal Register. Entries in paragraph (c), Tables 1 and 2, and paragraph (d) of this section with EPA approval dates after September 30, 2022, for the Commonwealth of Kentucky and September 30, 2022, for Jefferson County, Kentucky, will be incorporated by reference in the next update to the SIP compilation.

(2) EPA Region 4 certifies that the rules/regulations provided by EPA in the SIP compilation at the addresses in paragraph (b)(3) of this section are an exact duplicate of the officially promulgated State rules/regulations which have been approved as part of the State Implementation Plan as of the dates referenced in paragraph (b)(1).

(3) Copies of the materials incorporated by reference may be inspected at the Region 4 EPA office at 61 Forsyth Street SW, Atlanta, GA 30303. To obtain the material, please call (404) 562-9022. You may also inspect the material with an EPA approval date prior to September 30, 2022, for the Commonwealth at the National Archives and Records Administration (NARA). For information on the availability of this material at NARA, visit www.archives.gov/federal-register/cfr/ibr-locations or email fr.inspection@nara.gov.

(c) EPA-approved laws and regulations.

Table 1 to Paragraph (c)—EPA-Approved Kentucky Laws and Regulations
State citation | Title/subject | State effective date | EPA approval date | Explanation
Chapter 50 Division for Air Quality; General Administrative Procedures
401 KAR 50:005 | General application | 6/6/1979 | 7/12/1982, 47 FR 30059
401 KAR 50:010 | Definitions and abbreviations of terms used in Title 401 Chapters 50, 51, 53, 55, 57, 59, 61, 63, and 65 | 11/8/2006 | 9/13/2007, 72 FR 52282
401 KAR 50:012 | General application | 11/12/1997 | 7/24/1998, 63 FR 39739
401 KAR 50:015 | Documents incorporated by reference | 4/14/1988 | 2/7/1990, 55 FR 4169
401 KAR 50:020 | Air quality control regions | 6/6/1979 | 7/12/1982, 47 FR 30059
401 KAR 50:025 | Classification of counties | 6/1/1983 | 4/2/1996, 61 FR 14489
401 KAR 50:030 | Registration of sources | 6/6/1979 | 7/12/1982, 47 FR 30059
401 KAR 50:040 | Air quality models | 6/6/1979 | 7/12/1982, 47 FR 30059
401 KAR 50:042 | Good engineering practice stack height | 6/10/1986 | 9/4/1987,52 FR 33592
401 KAR 50:045 | Performance tests | 7/13/2005 | 10/17/2007, 72 FR 58759
401 KAR 50:047 | Test procedures for capture efficiency | 6/24/1992 | 6/23/1994, 59 FR 32343
401 KAR 50:050 | Monitoring | 6/6/1979 | 7/12/1982, 47 FR 30059
401 KAR 50:055 | General compliance requirements | 9/22/1982 | 12/4/1986, 51 FR 43742 | Except for Section 1(1) and 1(4), which were removed from the SIP by EPA on 8/11/2022.
401 KAR 50:060 | Enforcement | 6/6/1979 | 7/12/1982, 47 FR 30059
401 KAR 50:065 | Conformity of general federal actions | 10/11/1995 | 7/27/1998, 63 FR 40044
401 KAR 50:066 | Conformity of transportation plans, programs, and projects (Amendment) | 11/12/2008 | 4/21/2010, 75 FR 20780
Chapter 51 Attainment and Maintenance of the National Ambient Air Quality Standards
401 KAR 51:001 | Definitions for 401 KAR Chapter 51 | 12/7/2012 | 11/3/2014, 79 FR 65143 | Except the phrase “except ethanol production facilities producing ethanol by natural fermentation under the North American Industry Classification System (NAICS) codes 325193 or 312140” in 401 KAR 51:001 Section 1(118)(a)(2)(a) and the phrase “except ethanol production facilities producing ethanol by natural fermentation under NAICS codes 325193 or 312140” in 401 KAR 51:001 Section 1(118)(c)(20).
401 KAR 51:005 | Purpose and general provisions | 6/6/1979 | 7/12/1982, 47 FR 30059
401 KAR 51:010 | Attainment status Designations | 11/19/2019 | 3/1/2021, 86 FR 11870
401 KAR 51:017 | Prevention of significant deterioration of air quality | 12/7/2012 | 11/3/2014, 79 FR 65143 | With the exception of the SILs and SMC provisions for PM2.5, and except the phrase “except ethanol production facilities producing ethanol by natural fermentation under the North American Industry Classification System (NAICS) codes 325193 or 312140” in 401 KAR 51:017 Section 7(1)(c)20.
401 KAR 51:052 | Review of new sources in or impacting upon nonattainment areas | 12/7/2012 | 10/8/2015, 80 FR 60805 | With the exception of the SILs and SMC provisions for PM2.5, and except the phrase “except ethanol production facilities producing ethanol by natural fermentation under the North American Industry Classification System (NAICS) codes 325193 or 312140” in 401 KAR 51:052 Section 2(3)(t).
401 KAR 51:150 | NOX requirements for stationary internal combustion engines | 2/3/2006 | 10/23/2009, 74 FR 54755
401 KAR 51:160 | NOX requirements for large utility and industrial boilers | 2/3/2006 | 10/23/2009, 74 FR 54755
401 KAR 51:170 | NOX requirements for cement kilns | 8/15/2001 | 4/11/2002, 67 FR 17624
401 KAR 51:180 | NOX credits for early reduction and emergency | 8/15/2001 | 4/11/2002, 67 FR 17624
401 KAR 51:190 | Banking and trading NOX allowances | 8/15/2001 | 4/11/2002, 67 FR 17624
401 KAR 51:195 | NOX opt-in provisions | 8/15/2001 | 4/11/2002, 67 FR 17624
401 KAR 51:210 | CAIR NOX Annual Trading Program | 2/2/2007 | 10/4/2007, 72 FR 56623
401 KAR 51:220 | CAIR NOX Ozone Season Trading Program | 6/13/2007 | 10/4/2007, 72 FR 56623
401 KAR 51:230 | CAIR SO2 Trading Program | 2/2/2007 | 10/4/2007, 72 FR 56623
401 KAR 51:240 | Cross-State Air Pollution Rule (CSAPR) NOX annual trading program | 7/5/2018 | 2/10/2020, 85 FR 7449
401 KAR 51:260 | Cross-State Air Pollution Rule (CSAPR) SO2 group 1 trading program | 7/5/2018 | 2/10/2020, 85 FR 7449
Chapter 52 Permits, Registrations, and Prohibitory Rules
401 KAR 52:001 | Definitions for 401 KAR Chapter 52 | 11/18/2006 | 9/13/2007, 72 FR 52282
401 KAR 52:020 | Title V permits | 1/15/2001 | 1/28/2016, 81 FR 4896 | Only adding the first sentence of Section 22 entitled “Annual Emissions Certification”, and introductory paragraph text and subsection (4) of Section 23 entitled “Certification by Responsible Official”.
401 KAR 52:030 | Federally enforceable permits for non-major sources | 1/15/2001 | 9/6/2006, 71 FR 52460
401 KAR 52:040 | State-origin permits | 1/15/2001 | 1/28/2016, 81 FR 4896 | Only adding subsection (2) introductory text, subsection (2)(c), and subsection (3) of Section 3 entitled “General Provisions”; subsection (1) of Section 20 entitled “Annual Emissions Certification for Specified Sources”; and introductory text and subsection (4) of Section 21 entitled “Certification by Responsible Official”.
401 KAR 52:070 | Registration of designated sources | 1/15/2001 | 1/28/2016, 81 FR 4896 | Only adding subsection (2) introductory text, subsection (2)(a)(1), and first sentence of subsection (2)(a)(2) of Section 3 entitled “General Provisions”.
401 KAR 52:090 | Prohibitory rule for hot mix asphalt plants | 1/15/2001 | 9/6/2006, 71 FR 52460
401 KAR 52:100 | Public, affected state, and U.S. EPA review | 6/2/2020 | 10/1/2021, 86 FR 54379
Chapter 53 Ambient Air Quality
401 KAR 53:005 | General provisions | 4/14/1988 | 2/7/1990, 55 FR 4169
401 KAR 53:010 | Ambient air quality standards | 7/19/2016 | 9/12/2017, 82 FR 42746 | Except for references to hydrogen sulfide, fluorides, and odor.
Chapter 55 Emergency Episodes
401 KAR 55:005 | Significant harm criteria | 4/14/1988 | 2/7/1990, 55 FR 4169
401 KAR 55:010 | Episode criteria | 4/14/1988 | 2/7/1990, 55 FR 4169
401 KAR 55:015 | Episode declaration | 6/6/1979 | 1/25/1980, 45 FR 6092
401 KAR 55:020 | Abatement strategies | 6/6/1979 | 1/25/1980, 45 FR 6092
Chapter 59 New Source Standards
401 KAR 59:001 | Definitions for abbreviations of terms used in the Title 401, Chapter 59 | 11/18/2006 | 9/13/2007, 72 FR 52282
401 KAR 59:005 | General provisions | 12/1/1982 | 12/4/1986, 51 FR 43742
401 KAR 59:010 | New process operations | 4/14/1988 | 2/7/1990, 55 FR 4169
401 KAR 59:015 | New indirect heat exchangers | 1/7/1981 | 3/22/1983, 48 FR 11945
401 KAR 59:020 | New incinerators | 6/6/1979 | 7/12/1982, 47 FR 30059
401 KAR 59:046 | Selected new petroleum refining processes and equipment | 6/29/1979 | 8/7/1981, 46 FR 40188
401 KAR 59:050 | New storage vessels for petroleum liquids | 2/4/1981 | 3/30/1983, 48 FR 13168
401 KAR 59:080 | New kraft (sulfate) pulp mills | 6/6/1979 | 1/25/1980, 45 FR 6092
401 KAR 59:085 | New sulfite pulp mills | 6/6/1979 | 7/12/1982, 47 FR 30059
401 KAR 59:090 | New ethylene producing plants | 6/6/1979 | 7/12/1982, 47 FR 30059
401 KAR 59:095 | New oil-effluent water separators | 6/29/1979 | 8/7/1981, 46 FR 40188
401 KAR 59:101 | New bulk gasoline plants | 9/28/1994 | 6/28/1996, 61 FR 33674
401 KAR 59:105 | New process gas streams | 4/7/1982 | 3/22/1983, 48 FR 11945
401 KAR 59:174 | Stage II controls at gasoline dispensing facilities | 5/3/2016 | 10/14/2016, 81 FR 70966
401 KAR 59:175 | New service stations | 2/8/1993 | 6/23/1994, 59 FR 32343
401 KAR 59:185 | New solvent metal cleaning equipment | 1/4/2005 | 10/4/2005, 70 FR 57750
401 KAR 59:190 | New insulation of magnet wire operations | 6/24/1992
401 KAR 59:210 | New fabric, vinyl and paper surface coating operations | 6/24/1992 | 6/23/1994, 59 FR 32343
401 KAR 59:212 | New graphic arts facilities using rotogravure and flexography | 6/24/1992 | 6/23/1994, 59 FR 32343
401 KAR 59:214 | New factory surface coating operations of flat wood paneling | 6/24/1992 | 6/23/1994, 59 FR 32343
401 KAR 59:225 | New miscellaneous metal parts and products surface coating operation | 6/24/1992 | 6/23/1994, 59 FR 32343
401 KAR 59:230 | New synthesized pharmaceutical product manufacturing operations | 6/24/1992 | 6/23/1994, 59 FR 32343
401 KAR 59:235 | New pneumatic rubber tire manufacturing plants | 2/4/1981 | 3/30/1983, 48 FR 13168
401 KAR 59:240 | New perchloroethylene dry cleaning systems | 6/24/1992 | 6/23/1994, 59 FR 32343
401 KAR 59:315 | Specific new sources | 6/24/1992 | 6/23/1994, 59 FR 32343
401 KAR 59:760 | Commercial Motor Vehicle and Mobile Equipment Refinishing Operations | 3/11/2005 | 10/4/2005, 70 FR 57750
Chapter 61 Existing Source Standards
401 KAR 61:001 | Definitions for 401 KAR Chapter 61 | 11/18/2006 | 9/13/2007, 72 FR 52282
401 KAR 61:005 | General provisions | 12/1/1982 | 5/4/1989, 54 FR 19169
401 KAR 61:010 | Existing incinerators | 6/6/1979 | 5/4/1989, 54 FR 19169
401 KAR 61:015 | Existing indirect heat exchangers | 6/1/1983 | 4/2/1996, 61 FR 14489
401 KAR 61:020 | Existing process operations | 4/14/1988 | 2/7/1990, 55 FR 4169
401 KAR 61:025 | Existing kraft (sulfate) pulp mills | 6/6/1979 | 5/26/1982, 47 FR 22955
401 KAR 61:030 | Existing sulfuric acid plants | 6/6/1979 | 3/22/1983, 48 FR 11945
401 KAR 61:035 | Existing process gas streams | 4/7/1982 | 3/22/1983, 48 FR 11945
401 KAR 61:040 | Existing ethylene producing plants | 6/6/1979 | 1/25/1980, 45 FR 6092
401 KAR 61:045 | Existing oil-effluent water separators | 6/29/1979 | 8/7/1981, 46 FR 40188
401 KAR 61:050 | Existing storage vessels for petroleum liquids | 6/24/1992 | 6/23/1994, 59 FR 32345
401 KAR 61:055 | Existing loading facilities at bulk gasoline terminals | 8/24/1982 | 3/30/1983, 48 FR 13168
401 KAR 61:056 | Existing bulk gasoline plants | 9/28/1994 | 6/28/1996, 61 FR 33674
401 KAR 61:060 | Existing sources using organic solvents | 6/29/1979 | 1/25/1980, 45 FR 6092
401 KAR 61:065 | Existing nitric acid plants | 6/6/1979 | 7/12/1982, 47 FR 30059
401 KAR 61:070 | Existing ferroalloy production facilities | 6/6/1979 | 5/3/1984, 49 FR 18833
401 KAR 61:075 | Steel plants and foundries using existing electric arc furnaces | 12/1/1982 | 5/4/1989, 54 FR 19169
401 KAR 61:080 | Steel plants using existing basic oxygen process furnaces | 4/1/1984 | 5/4/1989, 54 FR 19169
401 KAR 61:085 | Existing service stations | 2/8/1993 | 6/23/1994, 59 FR 32343
401 KAR 61:090 | Existing automobile and light-duty truck surface coating operations | 6/24/1992 | 6/23/1994, 59 FR 32343
401 KAR 61:095 | Existing solvent metal cleaning equipment | 6/24/1992 | 6/23/1994, 59 FR 32343
401 KAR 61:100 | Existing insulation of magnet wire operations | 6/24/1992 | 6/23/1994, 59 FR 32343
401 KAR 61:105 | Existing metal furniture surface coating operations | 6/24/1992 | 6/23/1994, 59 FR 32343
401 KAR 61:110 | Existing large appliance surface coating operations | 6/24/1992 | 6/23/1994, 59 FR 32343
401 KAR 61:120 | Existing fabric, vinyl and paper surface coating operations | 6/24/1992 | 6/23/1994, 59 FR 32343
401 KAR 61:122 | Existing graphic arts facilities using rotogravure and flexography | 6/24/1992 | 6/23/1994, 59 FR 32343
401 KAR 61:124 | Existing factory surface coating operations of flat wood paneling | 6/24/1992 | 6/23/1994, 59 FR 32343
401 KAR 61:125 | Existing can surface coating operations | 6/24/1992 | 6/23/1994, 59 FR 32343
401 KAR 61:130 | Existing coil surface coating operations | 6/24/1992 | 6/23/1994, 59 FR 32343
401 KAR 61:132 | Existing miscellaneous metal parts and products surface coating operations | 6/24/1992 | 6/23/1994, 59 FR 32343
401 KAR 61:135 | Selected existing petroleum refining processes and equipment | 6/29/1979 | 1/25/1980, 45 FR 6092
401 KAR 61:137 | Leaks from existing petroleum refinery equipment | 6/24/1992 | 6/23/1994, 59 FR 32343
401 KAR 61:140 | Existing by-product coke manufacturing plants | 9/4/1986 | 5/4/1989, 54 FR 19169
401 KAR 61:145 | Existing petroleum refineries | 1/7/1981 | 3/22/1983, 48 FR 11945
401 KAR 61:150 | Existing synthesized pharmaceutical product manufacturing operations | 6/24/1992 | 6/23/1994, 59 FR 32343
401 KAR 61:155 | Existing pneumatic rubber tire manufacturing plants | 6/24/1992 | 6/23/1994, 59 FR 32343
401 KAR 61:160 | Existing perchloroethylene dry cleaning systems | 6/24/1992 | 6/23/1994, 59 FR 32343
401 KAR 61:165 | Existing primary aluminum reduction plants | 6/4/1985 | 12/2/1986, 51 FR 43395
401 KAR 61:170 | Existing blast furnace casthouses | 4/14/1988
401 KAR 61:175 | Leaks from existing synthetic organic chemical and polymer manufacturing equipment | 6/24/1992 | 6/23/1994, 59 FR 32343
Chapter 63 General Standards of Performance
401 KAR 63:001 | Definitions and abbreviations of terms used in 401 KAR Chapter 63 | 11/18/2006 | 9/13/2007, 72 FR 52282
401 KAR 63:005 | Open burning | 7/13/2005 | 10/17/2007, 72 FR 58759
401 KAR 63:010 | Fugitive emissions | 6/30/2020 | 5/9/2022, 87 FR 27524 | Except for the nuisance provision found in Section 3, Paragraph (4).
401 KAR 63:015 | Flares | 6/6/1979 | 12/24/1980, 45 FR 84999
401 KAR 63:025 | Asphalt paving operations | 6/24/1992 | 6/23/1994, 59 FR 32343
401 KAR 63:031 | Leaks from gasoline tank trunks | 2/8/1993 | 6/23/1994, 59 FR 32343
Chapter 65 Mobile Source-Related Emissions
401 KAR 65:001 | Definitions and abbreviations of terms used in 401 KAR Chapter 65 | 11/18/2006 | 9/13/2007, 72 FR 52282
401 KAR 65:005 | Liquefied petroleum gas carburetion systems | 6/6/1979 | 1/25/1980, 45 FR 6092
Kentucky Revised Statutes (KRS)
KRS Chapter 11A.020 | Public servant prohibited from certain conduct—Exception—Disclosure of personal or private interest | 7/15/1998 | 10/3/2012, 77 FR 60307
KRS Chapter 11A.030 | Considerations in determination to abstain from action on official decision—Advisory opinion | 7/14/1992 | 10/3/2012, 77 FR 60307
KRS Chapter 11A.040 | Acts prohibited for public servant or officer—exception | 7/16/2006 | 10/3/2012, 77 FR 60307
KRS Chapter 224.10-020 | Department within the cabinet—Offices and divisions within the departments—Appointments | 7/15/2010 | 10/3/2012, 77 FR 60307
KRS Chapter 224.10-100 | Powers and duties of cabinet | 8/30/2007 | 10/3/2012, 77 FR 60307

Table 2 to Paragraph (c)—EPA-Approved Jefferson County Regulations for Kentucky
Reg | Title/subject | EPA approval date | Federal Register notice | District effective date | Explanation
Reg 1—General Provisions
1.01 | General Application of Regulations and Standards | 10/23/2001 | 66 FR 53658 | 3/17/1999
1.02 | Definitions | 10/22/2020 | 85 FR 67282 | 6/19/2019
1.03 | Abbreviations and Acronyms | 8/31/2017 | 82 FR 41335 | 1/16/2008
1.04 | Performance Tests | 7/10/2020 | 85 FR 41399 | 6/19/2019
1.05 | Compliance with Emission Standards and Maintenance Requirements | 10/23/2001 | 66 FR 53658 | 11/18/1992
1.06 | Stationary Source Self-Monitoring, Emissions Inventory Development, and Reporting | 3/9/2022 | 87 FR 13177 | 5/20/2020 | Except Section 5 and any references to Section 5 in this regulation.
1.07 | Excess Emissions During Startups, Shutdowns, and Upset Conditions | 6/10/2014 | 79 FR 33101 | 7/21/2005
1.08 | Administrative Procedures | 10/21/2020 | 85 FR 66876 | 11/20/2019
1.09 | Prohibition of Air Pollution | 10/23/2001 | 66 FR 53658 | 11/16/1983
1.10 | Circumvention | 10/23/2001 | 66 FR 53658 | 4/19/1972
1.11 | Control of Open Burning | 8/31/2017 | 82 FR 41335 | 1/16/2008
1.14 | Control of Fugitive Particulate Emissions | 10/23/2001 | 66 FR 53658 | 1/20/1988
1.18 | Rule Effectiveness | 10/23/2001 | 66 FR 53686 | 9/21/1994
1.19 | Administrative Hearings | 8/31/2017 | 82 FR 41335 | 1/16/2008
Reg 2—Permit Requirements
2.01 | General Application | 10/23/2001 | 66 FR 53658 | 4/21/1982
2.02 | Air Pollution Regulation Requirements and Exemptions | 10/23/2001 | 66 FR 53658 | 6/21/1995
2.03 | Permit Requirements—Non-Title V Construction and Operating Permits and Demolition/Renovation Permits | 10/23/2001 | 66 FR 53658 | 12/15/1993 | Except for paragraphs 1.3, 5.3 and 5.6 regarding asbestos demolition, which were removed from the federally approved SIP by EPA on 5/7/2021.
2.04 | Construction or Modification of Major Sources in or Impacting Upon Non-Attainment Areas (Emission Offset Requirements) | 10/23/2001 | 66 FR 53658 | 3/17/1993
2.05 | Prevention of Significant Deterioration of Air Quality | 9/16/2020 | 85 FR 57707 | 1/17/2018 | This approval does not include Jefferson County's revisions to incorporate by reference the Fugitive Emissions Rule (December 19, 2008).
2.06 | Permit Requirements—Other Sources | 10/23/2001 | 66 FR 53658 | 11/16/1983
2.07 | Public Notification for Title V, PSD, and Offset Permits; SIP Revisions; and Use of Emission Reduction Credits | 10/23/2001 | 66 FR 53658 | 6/21/1995
2.09 | Causes for Permit Suspension | 11/3/2003 | 68 FR 62236 | 6/19/2002
2.10 | Stack Height Considerations | 10/23/2001 | 66 FR 53658 | 7/19/1989
2.11 | Air Quality Model Usage | 10/23/2001 | 66 FR 53658 | 5/19/1999
2.17 | Federally Enforceable District Origin Operating Permits | 3/1/2023 | 88 FR 12831 | 3/16/2022
Reg 3—Ambient Air Quality Standards
3.01 | Ambient Air Quality Standards | 5/11/2018 | 83 FR 21907 | 2/15/2017
Reg 4—Emergency Episodes
4.01 | General Provisions for Emergency Episodes | 10/23/2001 | 66 FR 53658 | 6/13/1979
4.02 | Episode Criteria | 10/23/2001 | 66 FR 53658 | 4/20/1988
4.03 | General Abatement Requirements | 10/23/2001 | 66 FR 53658 | 2/16/1983
4.04 | Particulate and Sulfur Dioxide Reduction Requirements | 10/23/2001 | 66 FR 53658 | 4/19/1972
4.05 | Hydrocarbon and Nitrogen Oxides Reduction Requirements | 10/23/2001 | 66 FR 53658 | 2/16/1983
4.06 | Carbon Monoxide Reduction Requirements | 10/23/2001 | 66 FR 53658 | 2/16/1983
4.07 | Episode Reporting Requirements | 10/23/2001 | 66 FR 53658 | 6/13/1979
Reg 6—Standards of Performance for Existing Affected Facilities
6.01 | General Provisions | 10/23/2001 | 66 FR 53658 | 11/16/1983
6.02 | Emission Monitoring for Existing Sources | 10/23/2001 | 66 FR 53658 | 11/16/1983
6.07 | Standards of Performance for Existing Indirect Heat Exchangers | 10/1/2019 | 84 FR 52003 | 1/17/2018
6.08 | Standard of Performance for Existing Incinerators | 10/23/2001 | 66 FR 53658 | 6/13/1979
6.09 | Standards of Performance for Existing Process Operations | 5/21/2019 | 84 FR 22982 | 1/17/2018
6.10 | Standard of Performance for Existing Process Gas Streams | 10/23/2001 | 66 FR 53658 | 11/16/1983
6.12 | Standard of Performance for Existing Asphalt Paving Operations | 10/23/2001 | 66 FR 53658 | 5/15/1991
6.13 | Standard of Performance for Existing Storage Vessels for Volatile Organic Compounds | 3/10/2021 | 86 FR 13655 | 6/19/2019
6.14 | Standard of Performance for Selected Existing Petroleum Refining Processes and Equipment | 10/23/2001 | 66 FR 53658 | 4/21/1982
6.15 | Standard of Performance for Gasoline Transfer to Existing Service Station Storage Tanks (Stage I Vapor Recovery) | 1/25/1980 | 45 FR 6092 | 6/13/1979
6.16 | Standard of Performance for Existing Large Appliance Surface Coating Operations | 10/23/2001 | 66 FR 53658 | 5/15/1991
6.17 | Standard of Performance for Existing Automobile and Truck Surface Coating Operations | 10/23/2001 | 66 FR 53658 | 11/18/1992
6.18 | Standards of Performance for Existing Solvent Metal Cleaning Equipment | 8/31/2017 | 82 FR 41335 | 5/9/2003
6.19 | Standard of Performance for Existing Metal Furniture Surface Coating Operations | 10/23/2001 | 66 FR 53658 | 5/15/1991
6.20 | Standard of Performance for Existing Bulk Gasoline Plants | 10/23/2001 | 66 FR 53658 | 11/16/1983
6.21 | Standard of Performance for Existing Gasoline Loading Facilities at Bulk Terminals | 3/11/2021 | 86 FR 13816 | 6/19/2019 | Except for the phrase “or an alternate procedure approved by District” in subsection 3.6.4.2.
6.22 | Standard of Performance for Existing Volatile Organic Materials Loading Facilities | 10/23/2001 | 66 FR 53658 | 3/17/1993
6.24 | Standard of Performance for Existing Sources Using Organic Materials | 10/23/2001 | 66 FR 53658 | 3/17/1993
6.26 | Standards of Performance for Existing Volatile Organic Compound Water Separators | 7/11/2019 | 84 FR 33004 | 1/17/2018
6.27 | Standards of Performance for Existing Liquid Waste Incinerators | 10/23/2001 | 66 FR 53658 | 6/13/1979
6.28 | Standard of Performance for Existing Hot Air Aluminum Atomization Processes | 10/23/2001 | 66 FR 53658 | 3/18/1981
6.29 | Standards of Performance for Existing Graphic Arts Facilities Using Rotogravure and Flexography | 10/12/2017 | 82 FR 47376 | 8/21/2013
6.30 | Standard of Performance for Existing Factory Surface Coating Operations of Flat Wood Paneling | 10/23/2001 | 66 FR 53658 | 5/15/1991
6.31 | Standards of Performance for Existing Miscellaneous Metal Parts and Products Surface Coating Operations | 9/2/2020 | 85 FR 54510 | 6/19/2019
6.32 | Standard of Performance for Leaks from Existing Petroleum Refinery Equipment | 10/23/2001 | 66 FR 53658 | 5/15/1991
6.33 | Standard of Performance for Existing Synthesized Pharmaceutical Product Manufacturing Operations | 10/23/2001 | 66 FR 53658 | 5/15/1991
6.34 | Standard of Performance for Existing Pneumatic Rubber Tire Manufacturing Plants | 10/23/2001 | 66 FR 53658 | 5/15/1991
6.35 | Standard of Performance for Existing Fabric, Vinyl and Paper Surface Coating Operations | 10/23/2001 | 66 FR 53658 | 5/15/1991
6.38 | Standard of Performance for Existing Air Oxidation Processes in Synthetic Organic Chemical Manufacturing Industries | 10/23/2001 | 66 FR 53658 | 12/17/1986
6.39 | Standard of Performance for Equipment Leaks of Volatile Organic Compounds in Existing Synthetic Organic Chemical and Polymer Manufacturing Plants | 10/23/2001 | 66 FR 53658 | 7/17/1996
6.40 | Standards of Performance for Gasoline Transfer to Motor Vehicles (Stage II Vapor Recovery and Control System) | 9/18/2017 | 82 FR 43489 | 11/10/2016
6.42 | Reasonably Available Control Technology Requirements for Major Volatile Organic Compound- and Nitrogen Oxides-Emitting Facilities | 10/23/2001 | 66 FR 53658 | 3/17/1999
6.43 | Volatile Organic Compound Reduction Requirements | 8/31/2017 | 82 FR 41335 | 2/15/2006
6.44 | Standards of Performance for Existing Commercial Motor Vehicle and Mobile Equipment Refinishing Operations | 10/23/2001 | 66 FR 53658 | 9/20/1995
6.45 | Standards of Performance for Existing Solid Waste Landfills | 10/23/2001 | 66 FR 53686 | 2/2/1994
6.46 | Standards of Performance for Existing Ferroalloy and Calcium Carbide Production Facilities | 10/23/2001 | 66 FR 53658 | 12/21/1994
6.48 | Standard of Performance for Existing Bakery Oven Operations | 10/23/2001 | 66 FR 53658 | 7/19/1995
6.49 | Standards of Performance for Reactor Processes and Distillation Operations Processes in the Synthetic Organic Chemical Manufacturing Industry | 10/23/2001 | 66 FR 53664 | 6/20/2001
6.50 | NOX Requirements for Portland Cement Kilns | 11/19/2002 | 67 FR 69688 | 3/20/2002
Reg 7—Standards of Performance for New Affected Facilities
7.01 | General Provisions | 10/23/2001 | 66 FR 53658 | 5/17/2000
7.06 | Standards of Performance for New Indirect Heat Exchangers | 10/23/2001 | 66 FR 53658 | 4/21/1982
7.07 | Standard of Performance for New Incinerators | 10/23/2001 | 66 FR 53658 | 9/15/1993
7.08 | Standards of Performance for New Process Operations | 5/21/2019 | 84 FR 22982 | 1/17/2018
7.09 | Standards of Performance for New Process Gas Streams | 10/23/2001 | 66 FR 53658 | 6/18/1997
7.11 | Standard of Performance for New Asphalt Paving Operations | 10/23/2001 | 66 FR 53658 | 5/15/1991
7.12 | Standard of Performance for New Storage Vessels of Volatile Organic Compounds | 3/10/2021 | 86 FR 13655 | 6/19/2019
7.14 | Standard of Performance for Selected New Petroleum Refining Processes and Equipment | 10/23/2001 | 66 FR 53658 | 6/13/1979
7.15 | Standards of Performance for Gasoline Transfer to New Service Station Storage Tanks (Stage I Vapor Recovery) | 10/23/2001 | 66 FR 53658 | 4/20/1988
7.20 | Standard of Performance for New Gasoline Loading Facilities at Bulk Plants | 3/11/2021 | 86 FR 13816 | 6/19/2019 | Except for the phrase “or an alternate procedure approved by the District” in subsection 3.11.1.2.
7.22 | Standard of Performance for New Volatile Organic Materials Loading Facilities | 10/23/2001 | 66 FR 53658 | 3/17/1993
7.25 | Standard of Performance for New Sources Using Volatile Organic Compounds | 10/23/2001 | 66 FR 53658 | 3/17/1993
7.34 | Standard of Performance for New Sulfite Pulp Mills | 10/23/2001 | 66 FR 53658 | 6/13/1979
7.35 | Standard of Performance for New Ethylene Producing Plants | 10/23/2001 | 66 FR 53658 | 6/13/1979
7.36 | Standards of Performance for New Volatile Organic Compound Water Separators | 7/11/2019 | 84 FR 33004 | 1/17/2018
7.51 | Standard of Performance for New Liquid Waste Incinerators | 10/23/2001 | 66 FR 53658 | 1/20/1988
7.52 | Standard of Performance for New Fabric, Vinyl, and Paper Surface Coating Operations | 10/23/2001 | 66 FR 53658 | 5/15/1991
7.55 | Standard of Performance for New Insulation of Magnet Wire | 10/23/2001 | 66 FR 53658 | 3/17/1993
7.56 | Standard of Performance for Leaks from New Petroleum Refinery Equipment | 10/23/2001 | 66 FR 53658 | 5/15/1991
7.58 | Standard of Performance for New Factory Surface Coating Operations of Flat Wood Paneling | 10/23/2001 | 66 FR 53658 | 5/15/1991
7.59 | Standards of Performance for New Miscellaneous Metal Parts and Products Surface Coating Operations | 9/2/2020 | 85 FR 54510 | 6/19/2019
7.60 | Standard of Performance for New Synthesized Pharmaceutical Product Manufacturing Operations | 10/23/2001 | 66 FR 53658 | 5/15/1991
7.77 | Standards of Performance for New Blast Furnace Casthouses | 10/23/2001 | 66 FR 53658 | 10/20/1993
7.79 | Standards of Performance for New Commercial Motor Vehicles and Mobile Equipment Refinishing Operations | 10/23/2001 | 66 FR 53686 | 2/2/1994
7.81 | Standard of Performance for New or Modified Bakery Oven Operations | 10/23/2001 | 66 FR 53658 | 5/17/2000

(d) EPA-approved source-specific requirements.

Table 3 to Paragraph (d)—EPA-Approved Kentucky Source-Specific Requirements
Name of source | Permit No. | State effective date | EPA approval date | Explanations
Bubble action at Kentucky Utilities Green River Plant | N/A | 12/1/1980 | 6/15/1981, 46 FR 31260
Bubble action at Corning Glassworks | N/A | 5/18/1981 | 10/29/1981, 46 FR 53408
Bubble action at National Distillers Company's, Old Crow Plant | N/A | 12/24/1980 | 9/14/1981, 46 FR 45610
Bubble action at Borden Chemical CO in Jefferson CO | N/A | 3/5/1982 | 5/11/1982, 47 FR 20125
Variance for seven perchloroethylene dry cleaners | N/A | 7/30/1982 | 5/2/1983, 48 FR 19716
Variance for two dry cleaners | N/A | 1/12/1983 | 5/5/1983, 48 FR 20233
Variance for Jiffy and Hiland Dry Cleaners | N/A | 3/30/1984 | 4/18/1985, 50 FR 15421
Opacity variance for boiler Units 1 and 2 of TVA's Paradise Steam Plant | KDEPDAQ Permit 0-86-75 | 7/24/1986 | 8/17/1988, 53 FR 30998
Operating Permit requiring VOC RACT for Calgon CO | KDEPDAQ Permit 0-94-020 | 11/17/1994 | 5/24/1995, 60 FR 27411
Alternative Averaging Period for American Greetings Corporation | KDEPDAQ Permit V-98-049 | 7/7/1999 | 5/9/2001, 66 FR 23615
Title V permit requiring VOC RACT for Publisher's Printing, Inc., Bullitt County | KDEPDAQ Permit 21-029-00019 | 7/20/2001 | 10/23/2001, 66 FR 53662
Board Order E.I. du Pont de Nemours & Company | NOX RACT Plan 02/21/01 | 3/1/2001 | 10/23/2001, 66 FR 53665
Board Order Ford Louisville Assembly Plant | NOX RACT Plan 11/08/99 | 1/1/2000 | 10/23/2001, 66 FR 53665
Board Order General Electric Company | NOX RACT Plan 01/17/01 | 3/1/2001 | 10/23/2001, 66 FR 53665
Board Order Kosmos Cement Company | NOX RACT Plan 05/03/04 | 5/3/2004 | 5/18/2005, 70 FR 28429
Board Order Louisville Gas and Electric Company, Cane Run Generating Station | NOX RACT Plan 10/18/00 | 1/1/2001 | 10/23/2001, 66 FR 53665
Board Order Louisville Gas and Electric Company, Mill Creek Generating Station | NOX RACT Plan 10/18/00 | 1/1/2001 | 10/23/2001, 66 FR 53665
Board Order Louisville Medical Center Steam Plant | NOX RACT Plan 1/18/2017 | 1/18/2017 | 10/12/2017, 82 FR 47376
Board Order Oxy Vinyls, LP | NOX RACT Plan 12/20/00 | 1/1/2001 | 10/23/2001, 66 FR 53665
Board Order Rohm and Haas Company | NOX RACT Plan 12/20/00 | 1/1/2001 | 10/23/2001, 66 FR 53665
Board Order Texas Gas Transmission | NOX RACT Plan 5/18/2016 | 5/18/2016 | 10/12/2017, 82 FR 47376
Lawson Mardon Packaging, USA, Inc | N/A | 8/11/2003 | 7/10/2003, 68 FR 41083
Calgon Carbon Corporation | V-00-015 | 5/13/2005 | 5/24/2006, 71 FR 29786 | The only parts of the permit being approved and incorporated are the SO2 emission limits from the following emissions points: 12, 14, 21, 31, 32, 34, 39, 40, 42, and 64.
TVA Paradise Permit | KDEPDAQ Permit 0-87-012 | 10/19/2007 | 4/29/2008, 73 FR 23105 | Emission Rates Units 1 and 2 are 1.2 lb/MMBTU and Unit 3 is 1.2 lb/MMBTU or * 3.1 lb/MMBTU.
Source-Specific SIP Revision for Avis Budget Car Rental Group | N/A | 8/9/2007 | 11/30/2009, 74 FR 62499 | Removal of stage II requirements.
LG & E Cane Run Generating Station NOX RACT Plan Amendment 2 | N/A | 7/18/2012 | 8/30/2016, 81 FR 59488
Louisville Gas and Electric Mill Creek Electric Generating Station | 145-97-TV(R3) | 6/23/2017 | 6/28/2019, 84 FR 30920 | Plant-wide Specific condition S1-Standards, S2-Monitoring and Record Keeping and S3-Reporting in title V permit 145-97-TV(R3) for EGU U1, U2, U3 and U4.
Board Order for the American Synthetic Rubber Company—Amendment 2 | N/A | 11/17/2021 | 6/7/2022, 87 FR 34577 | Including the attached VOC/NOX RACT Plan.
Board Order for LL Flex, LLC | N/A | 11/18/2020 | 9/30/2022, 87 FR 59309
* Bypass of the scrubber shall be limited to 720 operating hours in any 12 consecutive months.

* * * * *

[FR Doc. 2023-24694 Filed 11-14-23; 8:45 am]

BILLING CODE 6560-50-P